DEPARTMENT OF TRANSPORTATION

Federal Aviation Administration

14 CFR Part 39

[Docket No. FAA-2012-1250; Directorate Identifier 2012-CE-043-AD; Amendment 39-17344; AD 2013-03-09]

RIN 2120-AA64

Airworthiness Directives; DG Flugzeugbau GmbH Gliders

AGENCY: Federal Aviation Administration (FAA), Department of Transportation (DOT).

ACTION: Final rule.

SUMMARY: We are adopting a new airworthiness directive (AD) for DG Flugzeugbau GmbH Model DG-1000T gliders equipped with Solo Kleinmotoren Model 2350 C engines. This AD results from mandatory continuing airworthiness information (MCAI) issued by an aviation authority of another country to identify and correct an unsafe condition on an aviation product. The MCAI describes the unsafe condition as a material defect of the propeller shaft, most likely caused by a manufacturing error. We are issuing this AD to require actions to address the unsafe condition on these products.

DATES: This AD is effective March 19, 2013.

The Director of the Federal Register approved the incorporation by reference of a certain publication listed in the AD as of March 19, 2013.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact Solo Kleinmotoren GmbH, Postfach 60 01 52, D 71050 Sindelfingen, Germany; telephone: +49 07031-301-0; fax: +49 07031-301-136; email: aircraft@solo-germany.com; Internet: http://aircraft.solo-online.com/. You may review copies of the referenced service information at the FAA, Small Airplane Directorate, 901 Locust, Kansas City, Missouri 64106. For information on the availability of this material at the FAA, call (816) 329-4148.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 to include an AD that would apply to the specified products. That NPRM was published in the Federal Register on November 30, 2012 (77 FR 71359). That NPRM proposed to correct an unsafe condition for the specified products. The MCAI states:

Two reports have been received of a broken P/N 20 31 211 propeller shaft on a Solo 2350 C engine. The results of the investigation showed that the failures were due to a material defect, most likely caused by a manufacturing error.

This condition, if not detected and corrected, could lead to failure of the shaft and detachment of the propeller from the aeroplane, which, depending on the flight conditions, could result in reduced control of the aeroplane, or injury to persons on the ground.

For the reasons described above, this AD requires a one-time inspection (magnetic particle or dye penetrant) of the affected propeller shafts to detect cracks and, depending on findings, replacement of the propeller pulley assembly (module) with a serviceable module.

Comments

We gave the public the opportunity to participate in developing this AD. We received no comments on the NPRM or on the determination of the cost to the public.

Conclusion

We reviewed the relevant data and determined that air safety and the public interest require adopting the AD as proposed except for minor editorial changes. We have determined that these minor changes:

• Are consistent with the intent that was proposed in the NPRM (77 FR 71359, November 30, 2012) for correcting the unsafe condition; and

• Do not add any additional burden upon the public than was already proposed in the NPRM (77 FR 71359, November 30, 2012).

Costs of Compliance

We estimate that this AD will affect 2 products of U.S. registry. We also estimate that it would take about 1 work-hour per product to comply with the basic requirements of this AD. The average labor rate is $85 per work-hour. Required parts would cost about $0 per product.

Based on these figures, we estimate the cost of the AD on U.S. operators to be $170, or $85 per product.

In addition, we estimate that any necessary follow-on actions would take about 1 work-hour and require parts costing $197, for a cost of $282 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-03-09 DG Flugzeugbau GmbH: Amendment 39-17344; Docket No. FAA-2012-1250; Directorate Identifier 2012-CE-043-AD.

(a) Effective Date

This airworthiness directive (AD) becomes effective March 19, 2013.

(b) Affected ADs

None.

(c) Applicability

This AD applies to DG Flugzeugbau GmbH Model DG-1000T gliders equipped with Solo Kleinmotoren Model 2350 C engines, all serial numbers, certificated in any category.

(d) Subject

Air Transport Association of America (ATA) Code 72: Engine.

(e) Reason

This AD was prompted by mandatory continuing airworthiness information (MCAI) originated by an aviation authority of another country to identify and correct an unsafe condition on an aviation product. The MCAI describes the unsafe condition as a material defect within the propeller shaft, most likely caused by a manufacturing error. We are issuing this AD to prevent failure of the propeller shaft and detachment of the propeller, which could result in reduced control of the aircraft or injury to persons on the ground.

(f) Actions and Compliance

Unless already done, do the following actions:

(1) Within 25 hours time-in-service (TIS) after March 19, 2013 (the effective date of this AD) or 6 months after March 19, 2013 (the effective date of this AD), whichever occurs first, remove the propeller pulley assembly (module) from the engine and inspect the transition region of the part number (P/N) 20 31 211 shaft following the Actions section of Solo Kleinmotoren GmbH Service Bulletin Nr. 4603-13, Issue 1, dated September 24, 2012.

(2) If, during the inspection required by paragraph (f)(1) of this AD, cracks are detected in the P/N 20 31 211 shaft, before further flight, do the following:

(i) Replace the P/N 20 31 211 shaft with an airworthy P/N 20 31 211 shaft; or

(ii) Replace the propeller pulley assembly (module) with an airworthy propeller pulley assembly (module).

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No.: 2012-0197, dated September 25, 2012; and Solo Kleinmotoren GmbH Service Bulletin Nr. 4603-13, Issue 1, dated September 24, 2012, for related information.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Solo Kleinmotoren GmbH Service Bulletin Nr. 4603-13, Issue 1, dated September 24, 2012.

(ii) Reserved.

(3) For Solo Kleinmotoren GmbH service information identified in this AD, contact Solo Kleinmotoren GmbH, Postfach 60 01 52, D 71050 Sindelfingen, Germany; telephone: +49 07031-301-0; fax: +49 07031-301-136; email: aircraft@solo-germany.com; Internet: http://aircraft.solo-online.com/.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/index.html.

Issued in Kansas City, Missouri, on February 1, 2013.
Earl Lawrence,
Manager, Small Airplane Directorate, Aircraft Certification Service.

[FR Doc. 2013-02718 Filed 2-11-13; 8:45 am]

BILLING CODE 4910-13-P